DEPARTMENT OF THE INTERIOR

National Park Service

[NPS-WASO-NRNHL-0212-9498; 2200-3200-665]

National Register of Historic Places; Notification of Pending Nominations and Related Actions

Nominations for the following properties being considered for listing or related actions in the National Register were received by the National Park Service before February 4, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington DC 20005; or by fax, 202-371-6447. Written or faxed comments should be submitted by March 13, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Maricopa County

Sacred Heart Church, 920 S. 17th St., Phoenix, 12000124

CALIFORNIA

Riverside County

Steel Development House Number 2, 3125 N. Sunny View Dr., Riverside, 12000125

San Bernardino County

Ensign, Dr. Orville S., House, 304 S. Laurel Ave., Ontario, 12000126

San Mateo County

Howard—Ralston Eucalyptus Tree Rows, El Camino Real, CA 82, Burlingame, 12000127

Santa Clara County

Rhoades Ranch, 2290 Cochrane Rd., Morgan Hill, 12000128

Shasta County

Lorenz House, 1509 Yuba St., Redding, 12000129

CONNECTICUT

Middlesex County

Marlborough Street Historic District, 58, 64, 69, 70, 78, 88, & 92 Marlborough St., Portland, 12000130

IOWA

Poweshiek County

Montezuma Downtown Historic District, (Iowa's Main Street Commercial Architecture MPS) Roughly along 3rd, 4th, Main & Liberty Sts. around courthouse square, Montezuma, 12000131

MASSACHUSETTS

Barnstable County

Dune Shacks of Peaked Hill Bars Historic District, Inner Dune, Snail, & High Head Rds., Provincetown, 12000132

Essex County

Nahant Life—Saving Station, 96 Nahant Rd., Nahant, 12000133

NEW YORK

Seneca County

Women's Rights National Historic Park, 136 Fall St., Seneca Falls, 12000134

RHODE ISLAND

Providence County

Gately Building, 335 Main St., Pawtucket, 12000135

Providence Jewelry Manufacturing District (Boundary Increase), Bounded by US 195, Point, Parsonage, South, Hospital, Elbow, Ashcroft, Richmond, Eddy, & Ship Sts., Providence, 12000136

TENNESSEE

Knox County

Hopecote, 1820 Melrose Ave., Knoxville, 12000137

Williamson County

Nolensville School, 7248 Nolensville Rd., Nolensville, 12000138

A request for removal has been made for the following resource:

COLORADO

Eagle County

Wolcott Bridge, CO 131 at mi. .07, Wolcott, 12000137

[FR Doc. 2012-4387 Filed 2-24-12; 8:45 am]

BILLING CODE 4312-51-P